DEPARTMENT OF TRANSPORTATION

Federal Highway Administration

Notice of Availability of the Record of Decision for the SR-241/SR-91 Tolled Express Lanes Connector Project Supplemental Environmental Impact Report/Environmental Impact Statement: Orange County, California

AGENCY: Federal Highway Administration (FHWA), Department of Transportation (DOT).

ACTION: Notice of availability of the Record of Decision (ROD) for the SR-241/SR-91 Tolled Express Lanes Connector Project Supplemental Environmental Impact Report/Environmental Impact Statement (Supplemental EIR/EIS).

SUMMARY: In accordance with the National Environmental Policy Act of 1969, as amended (NEPA), and the Federal Land Policy and Management Act of 1976, as amended, the California Department of Transportation (Caltrans) has prepared a Record of Decision (ROD) for the Final Supplemental Environmental Impact Report/Environmental Impact Statement (Supplemental EIR/EIS) developed for the SR-241/SR-91 Tolled Express Lanes Connector Project. By this Notice, the FHWA is announcing the availability of the ROD. This supplemental environmental analysis was prepared to analyze buildout of the Eastern Transportation Corridor (ETC), as approved in 1994. Caltrans District 12 issues this ROD to advise the public of their decision to approve the proposed tolled express lanes connector between State Route 241 and the 91 Express Lanes.

ADDRESSES: The ROD and other project records are available at the Caltrans District 12, 1750 East Fourth Street, Suite 100, Santa Ana, California 92705 and Foothill Eastern Transportation Corridor Agency (F/ETCA) office, 125 Pacifica, Suite 120, Irvine, California 92618.

FOR FURTHER INFORMATION CONTACT: Smita Deshpande, Generalist Branch Chief, Caltrans-District 12, “Attn: 241-91 ROD”, 1750 East Fourth Street, Suite 100, Santa Ana, California 92705, telephone (657) 328-6151, or email D12TolledExpressLanesConnector@dot.ca.gov. For FHWA, contact David Tedrick, telephone (916) 498-5024, or email david.tedrick@dot.gov.

SUPPLEMENTARY INFORMATION: The California Department of Transportation (Caltrans) is the lead agency under the California Environmental Quality Act (CEQA). Caltrans is also the lead agency under the National Environmental Policy Act of 1969 (NEPA), as assigned by the Federal Highway Administration (FHWA), in accordance with NEPA (42 United States Code [U.S.C.] 4321 et seq.); and the Council on Environmental Quality (CEQ) Regulations implementing NEPA (40 Code of Federal Regulations [CFR] 1500-1508). Caltrans District 12, in cooperation with the Foothill/Eastern Transportation Corridor Agency (F/ETCA) proposes the State Route 241/State Route 91 (SR-241/SR-91) Express Lanes Connector to construct a median-to-median connector between SR-241 and the tolled lanes in the median of SR-91 (91 Express Lanes). The Proposed Project proposes to improve access and reduce congestion at the SR-241/SR-91 interchange by providing a direct connector between SR-241 and the 91 Express Lanes. The Propose Project, located at the junction of SR-241 and SR-91 in the cities of Anaheim, Yorba Linda, and Corona and the counties of Orange and Riverside, would provide improved access between SR-241 and SR-91 and is proposed to be a tolled facility with a total length of approximately 8.7 miles (mi). Currently, there is no direct connection between the SR-241 toll road and the 91 Express Lanes. SR-241 is a tolled facility, starting at the Oso Parkway interchange, in south Orange County, to its terminus at SR-91. The 91 Express Lanes is a two-lane tolled facility, in each direction, located in the median of SR-91, from State Route 55 (SR-55), to the Orange/Riverside County line (east of the SR-241 interchange). The existing SR-241/SR-91 interchange connects northbound SR-241 to non-tolled general purpose lanes of eastbound and westbound SR-91 and the eastbound and westbound SR-91 to southbound SR-241.

The Final Supplemental EIR/EIS was signed on January 7, 2020. The Notice of Availability for the Final Supplemental EIR/EIS was posted in the Federal Register on January 17, 2020 for a 30-day period ending on February 18, 2020. During the 30-day review period, Caltrans received letters and email correspondence from seven agencies. The Orange County Transportation Authority (OCTA) acknowledged receipt of the notice for the approval of the Final Supplemental EIR/EIS and did not provide further comments. The Orange County Cemetery District requested to be included in future correspondence pertaining to the Project. The California Department of Fish and Wildlife (CDFW), stated that they have no comments at this time. The California Transportation Commission (CTC) stated that they have no comments at this time and should be notified as soon as the environmental process is finalized. The Metropolitan Water District of Southern California (MWD) sent an email requesting a copy of the project location map and also provided a formal comment letter requesting that any design plans be submitted for their review and written approval to avoid potential conflicts with their facilities and right-of-way. The Bureau of Land Management (BLM) stated that they have no comments at this time. The United States Army Corps of Engineers (USACE) inquired with Caltrans staff regarding future coordination for funding and permitting. No comments in protest of the Final Supplemental EIR/EIS were received prior to issuance of the ROD.

Issued on: March 25, 2020.
Tashia J. Clemmons,
Director, Planning and Environmental, Federal Highway Administration, Sacramento, California.

[FR Doc. 2020-06916 Filed 4-1-20; 8:45 am]

BILLING CODE 4910-RY-P